DEPARTMENT OF ENERGY

Federal Energy Regulatory Commission

[Docket Nos. RP12-945-000, RP12-945-001]

High Point Gas Transmission, LLC; Notice Establishing Deadline for Comments

On September 13, 2012, High Point Gas Transmission, LLC (High Point) filed a response to the Commission's September 6, 2012 Data Request in the captioned proceedings.

Notice is hereby given that participants in the captioned proceedings may file comments to High Point's Data Response on or before 5 p.m. Eastern time on Monday, September 24, 2012.

Dated: September 17, 2012.
Kimberly D. Bose,
Secretary.

[FR Doc. 2012-23419 Filed 9-21-12; 8:45 am]

BILLING CODE 6717-01-P